SMALL BUSINESS ADMINISTRATION

Region IX District Advisory Council Public Meeting

The U.S. Small Business Administration Hawaii District Advisory Council, will hold a public meeting at 10 a.m. on Wednesday October 11, 2000 located at the Business Information and Counseling Center, 1111 Bishop Street, Suite 204, Training Center, Honolulu, HI to discuss such matters as may be presented by members, staff of the U.S. Small Business Administration, or others present. For further information write or call Andrew K. Poepoe, District Director U.S. Small Business Administration, 300 Ala Moana Boulevard, Room 2-235, Honolulu, Hawaii (808) 541-2965.

Bettie Baca,
Counselor to the Administrator/Public Liaison.

[FR Doc. 00-25186 Filed 9-29-00; 8:45 am]

BILLING CODE 8025-01-P